DEPARTMENT OF JUSTICE

Notice of Lodging of Consent Decree Under the Clean Water Act, the Clean Air Act, and the Resource Conservation and Recovery Act

Notice is hereby given that on April 3, 2006, a proposed Consent Decree in Partial Resolution of Pending Claims (“Consent Decree”) in United States, et al. v. AK Steel Corporation, Civil Action No. C-1-00530, was lodged with the United States District Court for the Southern District of Ohio. The Consent Decree partially resolves pending claims of the United States, the State of Ohio, and the Sierra Club/Natural Resources Defense Council against AK Steel Corporation (“Settling Defendant”) in this action under the Clean Air Act, as amended, 42 U.S.C. 7401 et seq., the Clean Water Act, as amended, 33 U.S.C. 1251 et seq., and the Resource Conservation and Recovery Act, as amended, 42 U.S.C. 6901 et seq. (“RCRA”), relating to Settling Defendant's integrated steelmaking facility in Middletown, Ohio (the “Facility”).

Under the Consent Decree, Settling Defendant will implement a series of RCRA corrective action “interim measures,” including removal of PCB-contaminated sediments and soils from specified surface waters, adjacent floodplain areas, and previously identified PCB “hot spots.” In addition, the Consent Decree requires Settling Defendant to undertake a comprehensive RCRA Facility Investigation, including human health and ecological risk assessments, to evaluate the nature, extent and potential impact of releases of hazardous wastes, hazardous constituents and other contaminants at or from the Facility and, as appropriate, complete a Corrective Measures Study to evaluate potential corrective measure alternatives. The Consent Decree also requires Settling Defendant to comply with specified requirements of the Clean Air Act and Clean Water Act. Finally, the Consent Decree requires Settling Defendant to pay a civil penalty of $460,000, and to perform an environmentally beneficial project that will remove ozone-depleting refrigerants from specified equipment at the Facility at a cost of not less than $750,000.

The Department of Justice will receive from a period of thirty (30) days from the date of this publication comments relating to the Consent Decree. Comments should be addressed to the Assistant Attorney General, Environment and Natural Resources Division, PO Box 7611, U.S. Department of Justice, Washington, DC 20044-7611, and should refer to United States, et al. v. AK Steel Corporation, D.J. Ref. 90-5-2-1-2189.

The Consent Decree may be examined at the Office of the United States Attorney, 221 East Fourth Street, Suite 400, Cincinnati, OH, 45202, and at U.S. EPA Region V, 77 West Jackson Blvd., Chicago, IL 60604. During the public comment period, the Consent Decree may also be examined on the following Department of Justice Web site. http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax No. (202 514-0097, phone confirmation number (202) 514-1547. In requesting a copy from the Consent Decree Library, please enclose a check in the amount of $25.75 (25 cents per page reproduction cost) payable to the U.S. Treasury.

William D. Brighton,
Assistant Chief, Environmental Enforcement Section, Environment and Natural Resources Division.

[FR Doc. 06-3323 Filed 4-5-06; 8:45am]

BILLING CODE 4410-15-M